DEPARTMENT OF ENERGY

Federal Energy Regulatory Commission

Notice of Intent To File Application for a New License

July 18, 2001.

Take notice that the following notice of intent has been filed with the Commission and is available for public inspection:

a. Type of filing: Notice of Intent to File an Application for New License.

b. Project No: 632.

c. Date filed: June 19, 2001.

d. Submitted By: Monroe City.

e. Name of Project: Lower Monroe Canyon Hydroelectric Project.

f. Location: Project located at the mouth of Monroe canyon in Sevier County, of the state of Utah.

g. Filed Pursuant to: Section 15 of the Federal Power Act, 18 CFR 16.6.

h. Pursuant to Section 16.19 of the Commission's regulations, the licensee is required to make available the information described in Section 16.7 of the regulations. Such information is available from the licensee at Monroe City office, 10 N. Main, Monroe, Utah 84754. Interested parties can contact Doug Gadd, Public Works Director, Monroe City Public Works Dept.

i. FERC Contact: Gaylord Hoisington, 202 219-2756, Gaylord.Hosington@Ferc.Fed.Us.

j. Expiration Date of Current License: February 14, 2006.

k. The principal project features include a small intake structure, penstock, and powerhouse with appurtenances. The installed capacity of the hydro power plant is 250 kilowatts (kw).

l. The licensee states its unequivocal intent to submit an application for a new license for Project No.632 Pursuant to 18 CFR 16.9(b)(1) each application for a new license and any competing license applications must be filed with the Commission at least 24 months prior to the expiration of the existing license. All applications for license for this project must be filed by February 14, 2004.

m. Copies of this filing are on file with the Commission and are available for public inspection. This filing may also be viewed on the web at http://www.ferc.gov using the “RIMS” link, select “Docket#” and follow the instructions (call 202-208-2222 for assistance).

Linwood A. Watson, Jr.,
Acting Secretary.

[FR Doc. 01-18360 Filed 7-23-01; 8:45 am]

BILLING CODE 6717-01-P